DEPARTMENT OF TRANSPORTATION

Federal Aviation Administration

14 CFR Part 39

[Docket No. FAA-2007-0073; Directorate Identifier 2007-NM-229-AD; Amendment 39-15240; AD 2007-22-04]

RIN 2120-AA64

Airworthiness Directives; Airbus Model A330 Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

During cruise, an A330 operator experienced a LH (left-hand) wing tank pump #1 low pressure message followed immediately by LH wing tank stand-by pump low pressure message, then LH wing tank pumps low pressure message. The flight crew opened the cross-feed valve to feed the engine on LH wing from RH (right-hand) wing but RH wing tank pumps low-pressure message was displayed as well as advisory unbalanced fuel message. * * *

* * * * *

It has been confirmed following fuel tank entry that outlet of the LH pump #2 canister had broken due to static overload.

If this situation is not corrected, it can lead to the loss of fuel on both engines in flight * * * [and] a dual engine flameout * * *.

This AD requires actions that are intended to address the unsafe condition described in the MCAI.

DATES: This AD becomes effective November 8, 2007.

The Director of the Federal Register approved the incorporation by reference of a certain publication listed in the AD as of November 8, 2007.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Tim Backman, Aerospace Engineer, International Branch, ANM-116, Transport Airplane Directorate, FAA, 1601 Lind Avenue SW., Renton, Washington 98057-3356; telephone (425) 227-2797; fax (425) 227-1149.

SUPPLEMENTARY INFORMATION:

Discussion

The European Aviation Safety Agency (EASA), which is the Technical Agent for the Member States of the European Community, has issued EASA Emergency Airworthiness Directive 2007-0216-E, dated August 8, 2007 (referred to after this as “the MCAI”), to correct an unsafe condition for the specified products. The MCAI states:

During cruise, an A330 operator experienced a LH (left-hand) wing tank pump #1 low pressure message followed immediately by LH wing tank stand-by pump low pressure message, then LH wing tank pumps low pressure message. The flight crew opened the cross-feed valve to feed the engine on LH wing from RH (right-hand) wing but RH wing tank pumps low-pressure message was displayed as well as advisory unbalanced fuel message. It was reported that the cross-feed was closed in accordance with applicable procedure and the aircraft was landed successfully.

It has been identified that both engines were gravity fed above the certified gravity feed ceiling for a brief period of time.

It has been confirmed following fuel tank entry that outlet of the LH pump #2 canister had broken due to static overload.

If this situation is not corrected, it can lead to the loss of fuel on both engines in flight which constitutes an unsafe condition.

To prevent a dual engine flameout, this Emergency Airworthiness Directive (EAD) mandates an operational procedure which covers the scenario of small or large engine feed line ruptures and to add also a method to recover fuel in the unlikely event that the engine on the affected wing fails to restart at or below the gravity feed ceiling.

You may obtain further information by examining the MCAI in the AD docket.

Relevant Service Information

Airbus has issued A330 Temporary Revision 4.02.00/39, dated June 21, 2007, to the Airbus A330 Airplane Flight Manual (AFM). The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

FAA's Determination of the Effective Date

An unsafe condition exists that requires the immediate adoption of this AD. The FAA has found that the risk to the flying public justifies waiving notice and comment prior to adoption of this rule because on the incident airplane, the outlet of the LH pump #2 canister to the engine fuel feed line was found ruptured. During cruise, the flightcrew followed existing AFM procedures for a FUEL L WING PUMPS LO PR ECAM caution, which resulted in an unwanted fuel transfer through the ruptured part from the right wing inner tank to the left wing inner tank. Under certain conditions, this could result in the loss of fuel to both engines and a dual engine flameout. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2007-0073; Directorate Identifier 2007-NM-229-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-22-04 Airbus: Amendment 39-15240. Docket No. FAA-2007-0073; Directorate Identifier 2007-NM-229-AD.

Effective Date

(a) This airworthiness directive (AD) becomes effective November 8, 2007.

Affected ADs

(b) None.

Applicability

(c) This AD applies to all Airbus Model A330 airplanes, certificated in any category, all certified models, all serial numbers.

Subject

(d) Air Transport Association (ATA) of America Code 28: Fuel.

Reason

(e) The mandatory continued airworthiness information (MCAI) states:

During cruise, an A330 operator experienced a LH (left-hand) wing tank pump #1 low pressure message followed immediately by LH wing tank stand-by pump low pressure message, then LH wing tank pumps low pressure message. The flight crew opened the cross-feed valve to feed the engine on LH wing from RH (right-hand) wing but RH wing tank pumps low-pressure message was displayed as well as advisory unbalanced fuel message. It was reported that the cross-feed was closed in accordance with applicable procedure and the aircraft was landed successfully.

It has been identified that both engines were gravity fed above the certified gravity feed ceiling for a brief period of time.

It has been confirmed following fuel tank entry that outlet of the LH pump #2 canister had broken due to static overload.

If this situation is not corrected, it can lead to the loss of fuel on both engines in flight which constitutes an unsafe condition.

To prevent a dual engine flameout, this Emergency Airworthiness Directive (EAD) mandates an operational procedure which covers the scenario of small or large engine feed line ruptures and to add also a method to recover fuel in the unlikely event that the engine on the affected wing fails to restart at or below the gravity feed ceiling.

Actions and Compliance

(f) Within 10 days after the effective date of this AD, unless already done, revise the Procedures and Emergency sections of the Airbus A330 Airplane Flight Manual (AFM) to include the information in Airbus A330 Temporary Revision (TR) 4.02.00/39, dated June 21, 2007. The TR revises the procedure to follow in the event of fuel pump low pressure warnings and adds operational procedures to follow in the event of a feed fuel line rupture.

Note 1: The action required by paragraph (f) of this AD may be done by inserting into the appropriate AFM sections a copy of the TR listed in paragraph (f) of this AD. When this TR has been included in the general revisions of the AFM, the general revisions may be inserted into the AFM, provided the relevant information in the general revision is identical to that in the TR listed in paragraph (f) of this AD.

Note 2: This AFM TR will be incorporated in another AFM TR associated to the introduction of Flight Warning Computer T2 standard.

FAA AD Differences

Note 3: This AD differs from the MCAI and/or service information as follows: No differences.

Other FAA AD Provisions

(g) The following provisions also apply to this AD:

(1) Alternative Methods of Compliance (AMOCs): The Manager, International Branch, ANM 116, Transport Airplane Directorate, FAA, has the authority to approve AMOCs for this AD, if requested using the procedures found in 14 CFR 39.19. Send information to ATTN: Tim Backman, Aerospace Engineer, International Branch, ANM-116, Transport Airplane Directorate, FAA, 1601 Lind Avenue SW., Renton, Washington 98057-3356; telephone (425) 227-2797; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to Mandatory Continuing Airworthiness Information (MCAI) European Aviation Safety Agency Emergency Airworthiness Directive 2007-0216-E, dated August 8, 2007, and Airbus A330 Temporary Revision 4.02.00/39, dated June 21, 2007, to the Airbus A330 AFM, for related information.

Material Incorporated by Reference

(i) You must use Airbus A330 Temporary Revision 4.02.00/39, dated June 21, 2007, to the Airbus A330 Airplane Flight Manual, to do the actions required by this AD, unless the AD specifies otherwise. (The issue date is identified only on the first page of the temporary revision; no other page of the document contains the date.)

(1) The Director of the Federal Register approved the incorporation by reference of this service information under 5 U.S.C. 552(a) and 1 CFR part 51.

(2) For service information identified in this AD, contact Airbus, 1 Rond Point Maurice Bellonte, 31707 Blagnac Cedex, France.

(3) You may review copies at the FAA, Transport Airplane Directorate, 1601 Lind Avenue SW., Renton, Washington; or at the National Archives and Records Administration (NARA). For information on the availability of this material at NARA, call (202) 741-6030, or go to: http://www.archives.gov/federal-register/cfr/ibr-locations.html.

Issued in Renton, Washington, on October 12, 2007.
Stephen P. Boyd,
Assistant Manager, Transport Airplane Directorate, Aircraft Certification Service.

[FR Doc. E7-20817 Filed 10-23-07; 8:45 am]

BILLING CODE 4910-13-P